DEPARTMENT OF ENERGY

Federal Energy Regulatory Commission

[Docket No. RP02-349-001]

Gulf South Pipeline Company, LP; Notice of Cash-In/Cash-Out Report

April 30, 2003.

Take notice that on April 3, 2003, Gulf South Pipeline Company, LP (Gulf South) filed additional information to comply with the Commission's March 14, 2003, Letter Order approving Gulf South's 2002 Cash-in/Cash-out Report, subject to Gulf South providing additional information. (102 FERC § 61,293 (2003)) Gulf South states that this information addresses concerns raised with respect to Gulf South's cumulative ending volume and cash deficiencies reflected in the report.

Gulf South states that copies of this filing have been served upon each person designated on the official service list compiled by the Federal Energy Regulatory Commission in this proceeding.

Any person desiring to protest said filing should file a protest with the Federal Energy Regulatory Commission, 888 First Street, NE., Washington, DC 20426, in accordance with section 385.211 of the Commission's Rules and Regulations. All such protests must be filed on or before May 7, 2003. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Magalie R. Salas,
Secretary.

[FR Doc. 03-11125 Filed 5-5-03; 8:45 am]

BILLING CODE 6717-01-P